DEPARTMENT OF COMMERCE

International Trade Administration

[C-489-845]

Certain Aluminum Foil From the Republic of Türkiye: Preliminary Results and Partial Rescission of Countervailing Duty Administrative Review; 2022

AGENCY: Enforcement and Compliance, International Trade Administration, Department of Commerce.

SUMMARY: The U.S. Department of Commerce (Commerce) preliminarily determines that countervailable subsidies were provided to producers and exporters of certain aluminum foil (aluminum foil) from the Republic of Türkiye (Türkiye). The period of review (POR) is January 1, 2022, through December 31, 2022. In addition, Commerce is rescinding the review, in part, with respect to one company. Interested parties are invited to comment on these preliminary results.

DATES: Applicable December 13, 2024.

FOR FURTHER INFORMATION CONTACT: Ian Riggs, AD/CVD Operations, Office IX, Enforcement and Compliance, International Trade Administration, U.S. Department of Commerce, 1401 Constitution Avenue NW, Washington, DC 20230; telephone: (202) 482-3810.

SUPPLEMENTARY INFORMATION:

Background

On December 29, 2023, based on timely requests for review, Commerce initiated this administrative review of the countervailing duty (CVD) order on aluminum foil from Türkiye.¹ On January 6, 2024, Commerce selected ASAS Aluminyum Sanayi ve Ticaret A.S. (ASAS) and Assan Aluminyum Sanayi ve Ticaret A.S. (Assan) as the mandatory respondents in this review.² On March 28, 2024, the petitioners and ASAS timely withdrew their requests for review for ASAS.³ Therefore, on April 5, 2024, Commerce selected Panda Aluminyum A.S. (Panda) as an additional mandatory respondent in this review.⁴

¹ See Initiation of Antidumping and Countervailing Duty Administrative Reviews, 88 FR 90168 (December 29, 2023).

² See Memorandum, “Respondent Selection,” dated January 26, 2024.

³ See ASAS's Letter, “ Withdrawal of Request for Administrative Review,” dated March 28, 2024 (ASAS” Withdrawal); see also Petitioners” Letter, “ Petitioners” Partial Withdrawal of Request for Review,” dated March 28, 2024 (Petitioners” Withdrawal).

⁴ See Memorandum, “Additional Respondent Selection,” dated April 5, 2024.

On July 15, 2024, Commerce extended the deadline for the preliminary results of this review.⁵ On July 22, 2024, Commerce tolled certain deadlines in certain administrative proceedings by seven days.⁶ On November 8, 2024, Commerce extended the time period for issuing these preliminary results by an additional 14 days.⁷ The deadline for the preliminary results is now December 6, 2024.

⁵ See Memorandum, “Extension of Deadline for Preliminary Results of 2022 Countervailing Duty Administrative Review,” dated May 15, 2024.

⁶ See Memorandum, “Tolling of Deadlines for Antidumping and Countervailing Duty Proceedings,” dated July 22, 2024.

⁷ See Memorandum, “Second Extension of Deadline for Preliminary Results of 2022 Countervailing Duty Administrative Review,” dated November 8, 2024.

For a complete description of the events that followed the initiation of this review, see the Preliminary Decision Memorandum.⁸ A list of topics discussed in the Preliminary Decision Memorandum is included as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁸ See Memorandum, “Decision Memorandum for the Preliminary Results of the 2022 Countervailing Duty Administrative Review of Certain Aluminum Foil from the Republic of Türkiye,” dated concurrently with, and hereby adopted by, this notice (Preliminary Decision Memorandum).

Scope of the Order ⁹

⁹ See Certain Aluminum Foil from the Sultanate of Oman and the Republic of Turkey: Countervailing Duty Orders, 86 FR 62782 (November 12, 2021) (Order).

The merchandise covered by the Order is aluminum foil from Türkiye. For a complete description of the scope of the Order, see the Preliminary Decision Memorandum.

Partial Rescission of Administrative Review

In accordance with 19 CFR 351.213(d)(1), Commerce will rescind an administrative review, in whole or in part, if a party who requested the review withdraws the request within 90 days of the date of publication of the notice of initiation of the requested review in the Federal Register. On March 28, 2024, the petitioners and ASAS withdrew their requests for review for ASAS.¹⁰ Because ASAS and the petitioners timely withdrew their requests for a review of ASAS, and no other party requested a review of ASAS, in accordance with 19 CFR 351.213(d)(1), Commerce is rescinding this review, in part, with respect to ASAS.

¹⁰ See ASAS” Withdrawal; See also Petitioners” Withdrawal.

Methodology

Commerce is conducting this review in accordance with section 751(a)(l)(A) of the Tariff Act of 1930, as amended (the Act). For each of the subsidy programs found countervailable, Commerce preliminarily determines that there is a subsidy, i.e., a financial contribution by an “authority” that gives rise to a benefit to the recipient, and that the subsidy is specific.¹¹ For a full description of the methodology underlying our conclusions, see the Preliminary Decision Memorandum.

¹¹ See sections 771(5)(B) and (D) of the Act regarding financial contribution; section 771(5)(E) of the Act regarding benefit; and section 771(5A) of the Act regarding specificity.

Preliminary Results of Review

As a result of this review, we preliminarily determine the net countervailable subsidy rates for the period January 1, 2022, through December 31, 2022, to be:

Company | Subsidy rate (percent ad valorem)
Assan Aluminyum Sanayi ve Ticaret A.S.¹² | 1.30
Panda Aluminyum A.S.¹³ | 1.51

Disclosure and Public Comment

¹² As discussed in the Preliminary Decision Memorandum, Commerce has found the following companies to be cross-owned with Assan: Ispak Esnek Ambalaj Sanayi A.S.; and Kibar Holding A.S. We note that Assan has an affiliated trading company through which it exported certain subject merchandise, Kibar Dis Ticaret A.S. (Kibar Dis). Therefore, because Kibar Dis’ subsidies are included as part of Assan's total subsidy rate, we have not assigned a subsidy rate to Kibar Dis. Entries of subject merchandise exported by Kibar Dis will receive the rate of the producer listed on the U.S. Customs and Border Protection (CBP) entry form.

¹³ We note that Panda has an affiliated trading company through which it exported certain subject merchandise, Seherli Danişmanlik A.Ş. (Seherli). Seherli was not selected as a mandatory respondent but was examined in the context of Panda. Therefore, because Seherli's subsidies are included as part of Panda's total subsidy rate, we have not assigned a subsidy rate to Seherli. Entries of subject merchandise exported by Seherli will receive the rate of the producer listed on the CBP entry form.

Commerce intends to disclose its calculations and analysis performed to interested parties for these preliminary results within five days of any public announcement or, if there is no public announcement, within five days of the date of publication of this notice in the Federal Register in accordance with 19 CFR 351.224(b).

Pursuant to 19 CFR 351.309(c), interested parties may submit case briefs to Commerce no later than 30 days after the date of publication of this notice. Rebuttal briefs, limited to issues raised in the case briefs, may be filed not later than five days after the date for filing case briefs. Interested parties who submit case briefs or rebuttal briefs in this proceeding must submit: (1) a table of contents listing each issue; and (2) a table of authorities.¹⁴ All briefs must be filed electronically using ACCESS. An electronically filed document must be received successfully in its entirety in ACCESS by 5:00 p.m. Eastern Time on the established deadline.

¹⁴ See 19 CFR 351.309(d); see also Administrative Protective Order, Service, and Other Procedures in Antidumping and Countervailing Duty Proceedings, 88 FR 67069, 67077 (September 29, 2023) (APO and Service Procedures).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁵ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain the party's name and address, the number of participants; and a list of issues to be discussed. Oral presentations at the hearing will be limited to issues raised in the case and rebuttal briefs. If a request for a hearing is made, Commerce will inform parties of the scheduled date for the hearing.¹⁷

¹⁷ See 19 CFR 351.310(d).

Assessment Rates

Consistent with section 751(a)(1) of the Act and 19 CFR 351.212(b)(2), upon issuance of the final results, Commerce shall determine, and CBP shall assess, countervailing duties on all appropriate entries covered by this review.

For ASAS, Commerce will instruct CBP to assess countervailing duties on all appropriate entries at a rate equal to the cash deposit of estimated countervailing duties required at the time of entry, or withdrawal from warehouse, for consumption, during the period January 1, 2022, through December 31, 2022, in accordance with 19 CFR 351.212(c)(l)(i). Commerce intends to issue assessment instructions to CBP regarding ASAS no earlier than 35 days after the date of publication of this notice in the Federal Register.

For Assan and Panda, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit instructions, when imposed, shall remain in effect until further notice.

Final Results of Administrative Review

Unless the deadline in extended, pursuant to section 751(a)(3)(A) of the Act and 19 CFR 351.213(h), Commerce intend to issue the final results of this administrative review, including the results of our analysis of the issues raised by the parties in any written briefs, within 120 days after the date of publication of these preliminary results in the Federal Register.

Notification to Interested Parties

We are issuing and publishing these preliminary results in accordance with sections 751(a)(1) and 777(i)(1) of the Act, and 19 CFR 351.221(b)(4).

Dated: December 6, 2024.
Abdelali Elouaradia,
Deputy Assistant Secretary for Enforcement and Compliance.

Appendix—List of Topics Discussed in the Preliminary Decision Memorandum

I. Summary

II. Background

III. Scope of the Order

IV. Diversification of Türkiye's Economy

V. Subsidies Valuation

VI. Benchmarks and Interest Rates

VII. Analysis of Programs

VIII. Recommendation

[FR Doc. 2024-29323 Filed 12-12-24; 8:45 am]

BILLING CODE 3510-DS-P